DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of December, 2002.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41,937; Circuit Center, Inc., Kettering, OH

TA-W-42,258; Joan Fabrics Corp., Pilot Location, Hickory, NC

TA-W-42,276; Koei Industrial Corp., Ltd, Hillsboro OR

TA-W-42,120 & A, B; Autoline Industries, In., Oakbrook, IL, Argyle Industries, In., Arglye, WI, and Autoline Industries East, Inc., McElhatten, PA

TA-W-42,181; Georgia-Pacific Corp., Bowden Eastern Hardwood Div., Bowden, NC

TA-W-42,287; Crystal Dyeing and Finishing, Hickory, NC

TA-W-42,249; Envirosystems Furniture, Inc., Grand Rapids, MI

TA-W-42,332; Parker Hannifin Corp., Gas Turbine Fuel Systems Div., Andover, OH

In the following cases, the investigation revealed that the criteria for eligibility have not been met for the reasons specified.

Increased imports did not contribute importantly to worker separations at the firm.

TA-W-41,990; General Motors Corp., Linden, NJ

TA-W-42,114; Minnesota Brewing Company Holding, St. Paul, MN

TA-W-42,088; Lucent Technologies, Mount Olive, NJ

TA-W-41,988; Sunbelt Interplex, Inc., Tamarac, FL

TA-W-42,110; Danam, Inc., El Paso, TX

The workers firm does not produce an article as required for certification under Section 222 of the Trade Act of 1974.

TA-W-42,295; Master Carrier, Inc., Mayport, PA

TA-W-50,090; YKK, (USA), Inc., Div. of YKK Corp. of America, El Paso, TX

The investigation revealed that criteria (2) and (3) have not been met. Sales or production did not decline during the relevant period as required for certification. Increased imports did not contribute importantly to worker separations at the firm.

TA-W-42,256; Jackson Dewing Center, Madisonville, TN

TA-W-42,079; Nabors Alaska Drilling, Anchorage, AK

The investigation revealed that criteria (1) and (3) have not been met. A significant number or proportion of the workers did not become totally or partially separated from employment as required for certification. Increased imports did not contribute importantly to worker separations at the firm.

TA-W-42,320; Apache Corp., Houston, TX

Affirmative Determinations for Worker Adjustment Assistance

The following certifications have been issued; the date following the company name and location of each determination references the impact date for all workers of such determination.

TA-W-42,264; ASCG Inspection, Inc., Anchorage, AK: October 2, 2001.

TA-W-42,290; Glen Raven, Inc., Glen Raven Filament Fabrics, LLC, Burnsville Plant, Burnsville, NC: September 30, 2001.

TA-W-42,306; Atlas Copco Compressors, Inc., Holyoke, MA: October 9, 2001.

TA-W-42,271; Uniek, Inc., Wood Div., Greenwood, MS: September 30, 2001.

TA-W-42,323; Perma Grain Products, Armstone Div., Lenoir City, TN: October 15, 2001.

TA-W-42,187; Faith Apparel, Inc., Richlands, VA: September 9, 2001.

TA-W-42,167; ADC Telecommunications, Le Sueur, MN: September 4, 2001.

TA-W-42,158; O-Cedar Brands, Inc., Standard Brush Div., Portland, IN: September 5, 2001.

TA-W-41,916; Emess Design Group, LLC, Ellwood City, PA: July 15, 2001.

TA-W-42,225; Ametek, Ametek Aerospace and Power Instruments Div., Wilmington, MA: September 20, 2001.

TA-W-42,217; Microelectronic Modules Corp., New Berlin, WI: September 23, 2001.

TA-W-42,204; G.S. of West Virginia, Inc., Ravenwood, WV: September 13, 2001.

TA-W-42,255; Waltec Forgings, Inc., Port Huron, MI: September 30, 2001.

TA-W-42,219; Celestica Corp., Foothill Ranch, CA: September 12, 2001.

TA-W-42,177; Fred B. Moe Logging Co., Centralia, WA: September 6, 2001.

The following certifications have been issued. The requirements of (a)(2)(A) (increased imports) of Section 222 have been met.

TA-W-50,043; Dynagear, Inc., Manley Valve Div., York, PA: November 5, 2001.

TA-W-50,032; Kent, Inc., Fort Kent, ME: November 5, 2001.

TA-W-50,031; Saunders Brothers, Inc., Westbrook, ME: November 7, 2001.

TA-W-50,044; Wrought Washer Manufacturing, Inc., Milwaukee, WI: November 7, 2001.

TA-W-50,077; Northern Cambria Shirt Co., Northern Cambria, PA: November 6, 2001.

TA-W-50,201; Aerostar International, Inc., Parkston, SD: November 19, 2001

TA-W-50,112; California Manufacturing Co., d/b/a Stanwood Corp., Pelahatchie, MS: November 5, 2001.

TA-W-50,167; Bike Athletic Co., Cutting Department, Knoxville, TN: November 21, 2001.

The following certifications have been issued. The requirements of (a)(2)(B) (shift in production) of Section 222 have been met.

TA-W-50,173; Twyford International, Inc., Sebring, FL: November 15, 2001.

TA-W-50,138; BBA Nonwovens Washougal, Inc., Washougal, WA: November 19, 2001.

TA-W-50,072; Federal Mogul, Powertrain Systems Div., Orangeburg, SC: November 11, 2001.

TA-W-50,017; Blue Bird Corp., Blue Bird Body Co., Blue Bird Midwest Div., Mt. Pleasant, IA: November 5, 2001.

TA-W-50,061; VF Jeanswear, Limited Partnership, A Subsidiary of VF Corp., Woodstock, VA: November 6, 2001.

TA-W-50,066; Square D, Lincoln, NE: November 8, 2001.

TA-W-50,087 & A; VF Jeanswear, Limited Partnership, A Subsidiary of VF Corp., Okemah, OK and Coalgate, OK: November 6, 2001.NC: November 7, 2001.

TA-W-50,007; Levolor-Kirsh Window Fashions, Div. of Newell Rubbermaid, Freeport, IL: November 4, 2001.

The following certification has been issued. The workers qualify as adversely affected secondary workers under Section 222.

TA-W-50,005; Bottoms Group, Inc., Auburn, ME: November 4, 2001.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of December, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07595; Microelectronic Modules Corp., New Berlin, WI

NAFTA-TAA-07564; Georgia-Pacific Corp., Bowden Hardwood Div., Bowden, NC

NAFTA-TAA-06432; Emess Design Group, LLC, Ellwood City, PA

NAFTA-TAA-06469; Sunbelt Interplex, Inc., Tamarac, FL

NAFTA-TAA-06489; Minnesota Brewing Co., St. Paul, MN

NAFTA-TAA-07578; Enviro Systems Furniture, Inc., Grand Rapids, MI

NAFTA-TAA-07623; ATK North America, A Subsidiary of Vege Motoren, Falmouth, KY

NAFTA-TAA-07642; Electric Steel Castings Co., Indianapolis, IN

The investigation revealed that the criteria for eligibility have not been met for the reasons specified.

The investigation revealed that workers of the subject firm did not produce an article within the meaning of Section 250(a) of the Trade Act, as amended.

NAFTA-TAA-07613; Legato Systems, Inc., Orem, UT

NAFTA-TAA-07600; Autoline Industries, Inc., Oakbrook, IL

Affirmative Determinations NAFTA-TAA

NAFTA-TAA-06422; Matsushita Home Appliance Co., Danville, KY: July 22, 2001.

NAFTA-TAA-06996; State of Alaska Commercial Fisheries Entry Commission Permit #57350P, South Naknek, AK: September 5, 2001.

NAFTA-TAA-07547; Fred B. Moe Logging Co., Centralia, WA: September 6, 2001.

NAFTA-TAA-07570; Transpro, Inc., d/b/a Go/Dan Industries, Maquoketa, IA: September 18, 2001.

NAFTA-TAA-07575; Celestica Corp., Foothill Ranch, CA: September 12, 2001.

NAFTA-TAA-07620; Trailmobile Trailer, LLC, Charleston, IL: July 25, 2001.

NAFTA-TAA-07634; Wolverine World Wide, Inc., Formerly Frolic Footwear, A Div. of Wolverine Manufacturing Group, Arkansas Operations, Monette, AR: October 23, 2001.

NAFTA-TAA-07636; Celestica Corp., Oklahoma City, OK: October 28, 2001.

NAFTA-TAA-07659; Electric Systems, Inc., Elysburg, PA: October 31, 2001

NAFTA-TAA-07576; Ametek, Ametek Aerospace and Power Instruments Div., Wilmington, MA: September 23, 2001.

I hereby certify that the aforementioned determinations were issued during the month of December, 2002. Copies of these determinations are available for inspection in Room C-5311, U.S. Department of Labor, 200 Constitution Avenue, N.W., Washington, D.C. 20210 during normal business hours or will be mailed to persons who write to the above address.
Dated: December 10, 2002.
Edward A. Tomchick,
Director, Division of Trade Adjustment Assistance.

[FR Doc. 02-32235 Filed 12-20-02; 8:45 am]

BILLING CODE 4510-30-P